NATIONAL ARCHIVES AND RECORDS ADMINISTRATION

[NARA-2020-033]

Records Management; General Records Schedule (GRS); GRS Transmittal 31

AGENCY: National Archives and Records Administration (NARA).

ACTION: Notice of new General Records Schedule (GRS) Transmittal 31.

SUMMARY: NARA is issuing revisions to the General Records Schedule (GRS). The GRS provides mandatory disposition instructions for administrative records common to several or all Federal agencies. Transmittal 31 includes only changes we have made to the GRS since we published Transmittal 30 in December 2019. Additional GRS schedules remain in effect that we are not issuing via this transmittal.

DATES: This transmittal is effective May 4, 2020.

ADDRESSES: You can find all GRS schedules, crosswalks, and FAQs at http://www.archives.gov/records-mgmt/grs.html (in Word, PDF, and CSV formats). You can download the complete current GRS, in PDF format, from the same location.

FOR FURTHER INFORMATION CONTACT: For more information about this notice or to obtain paper copies of the GRS, contact Kimberly Keravuori, Regulatory and External Policy Program Manager, by email at regulation_comments@nara.gov or by telephone at 301.837.3151.

Writing and maintaining the GRS is the GRS Team's responsibility. This team is part of Records Management Services in the National Records Management Program, Office of the Chief Records Officer at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our website at http://www.archives.gov/records-mgmt/appraisal/index.html.

SUPPLEMENTARY INFORMATION: GRS Transmittal 31 announces changes to the General Records Schedules (GRS) made since we published GRS Transmittal 30 in December 2019. The GRS provide mandatory disposition instructions for records common to several or all Federal agencies. Transmittal 31 includes alterations to 16 previously published schedules.

You can find all schedules (in Word and PDF formats), a master crosswalk, FAQs for all schedules, and FAQs about the whole GRS at http://www.archives.gov/records-mgmt/grs.html. At the same location, you can also find the entire GRS (just schedules—no crosswalks or FAQs) in a single document you can download.

1. What changes does this transmittal make to the GRS?

GRS Transmittal 31 alters 15 schedules to insert language requiring agencies to offer records created prior to a specified date (January 1, 1921, unless stated otherwise in questions 3-6 and 8 below) to NARA. Only if NARA declines the offer may agencies destroy such records. This requirement existed in schedules in the old GRS but was omitted in the new GRS revision. We have determined the requirement is still necessary, so are reinstating it in these schedules covering the applicable records:

GRS 1.1 Financial Management and Reporting Records

GRS 2.1 Employee Acquisition Records

GRS 2.2 Employee Management Records

GRS 2.3 Employee Relations Records

GRS 2.5 Employee Separation Records

GRS 2.6 Employee Training Records

GRS 2.7 Employee Health and Safety Records

GRS 4.1 Records Management Records

GRS 4.2 Information Access and Protection Records

GRS 5.3 Continuity and Emergency Planning Records

GRS 5.4 Facility, Equipment, Vehicle, Property, and Supply Records

GRS 5.5 Mail, Printing, and Telecommunication Service Management Records

GRS 5.6 Security Records

GRS 5.7 Agency Accountability Records

GRS 6.4 Public Affairs Records

This transmittal also publishes updates to:

GRS 6.1 Email Managed under a Capstone Approach (see question 7 below)

This transmittal also rescinds certain items in GRS 6.6, Rulemaking Records, and moves other items from that schedule to GRS 5.7 (see question 9 below). Because of these changes, GRS 6.6, Rulemaking Records, no longer exists.

We discuss these items in the questions below.

2. What changes did we make to GRS 1.1?

We added this requirement to the schedule's introduction: “Agencies must offer any records created prior to January 1, 1921, to the National Archives and Records Administration (NARA) before applying disposition instructions in this schedule.” We also added this note to items 010 and 011: “Agencies must offer any records created prior to January 1, 1933, to the National Archives and Records Administration (NARA) before applying this disposition authority.”

3. What changes did we make to GRS 2.1, 2.2, 2.3, 2.5, 2.6, 2.7, 4.1, 4.2, 5.3, 5.5, and 5.7?

We added this requirement to each schedule's introduction: “Agencies must offer any records created prior to January 1, 1921, to the National Archives and Records Administration (NARA) before applying disposition instructions in this schedule.”

4. What changes did we make to GRS 5.4?

We added this requirement to the schedule's introduction: “Agencies must offer any records created prior to January 1, 1921, to the National Archives and Records Administration (NARA) before applying disposition instructions in this schedule.” We also added this note to items 070 and 071: “Agencies must offer any records created prior to January 1, 1939, to the National Archives and Records Administration (NARA) before applying this disposition authority.”

5. What changes did we make to GRS 5.6?

We added this requirement to the schedule's introduction: “Agencies must offer any records created prior to January 1, 1921, to the National Archives and Records Administration (NARA) before applying disposition instructions in this schedule.” We also added this note to items 120 and 130: “Agencies must offer any records created prior to January 1, 1939, to the National Archives and Records Administration (NARA) before applying this disposition authority.”

6. What changes did we make to GRS 6.1?

We added to this schedule's introduction the requirement that agencies systematically resubmit form NA-1005, and that users should consult a new “resubmission” section in this schedule's FAQs for details.

7. What changes did we make to GRS 6.4?

We added this requirement to the schedule's introduction: “Agencies must offer any records created prior to January 1, 1921, to the National Archives and Records Administration (NARA) before applying disposition instructions in this schedule.” We also added this note to item 030: “Agencies must offer any cartographic and aerial photographic records created prior to January 1, 1950, to the National Archives and Records Administration (NARA) before applying this disposition authority.”

8. What changes did we make to GRS 6.6?

We rescinded items 010 through 030 (DAA-GRS-2017-0012-0001 through 0003) because we learned they do not reflect how agencies create and maintain rulemaking records. We moved items 040-050 (DAA-GRS-2017-0012-0004 and 0005) to items 070 and 080 in GRS 5.7. GRS 6.6, Rulemaking Records, will no longer appear as a chapter in the GRS.

9. How do agencies cite GRS items?

When you send records to an FRC for storage, you should cite the records' legal authority—the “DAA” number—in the “Disposition Authority” column of the table. Please also include schedule and item number. For example, “DAA-GRS-2017-0007-0008 (GRS 2.2, item 070).”

10. Do agencies have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

David S. Ferriero,
Archivist of the United States.

[FR Doc. 2020-09352 Filed 5-1-20; 8:45 am]

BILLING CODE 7515-01-P